Title 3—

The President

Proclamation 9889 of May 17, 2019

National Safe Boating Week, 2019

By the President of the United States of America

A Proclamation

As we near the summer season, tens of millions of Americans will take to our Nation's waters to spend time with family and friends. As we enjoy our activities on the water, we must act responsibly to follow safety procedures when boating. During National Safe Boating Week, I urge all Americans to familiarize themselves with the best practices for a safe boating experience.

Regrettably, tragedy on the water can often strike when you least expect it. Indeed, the majority of boating fatalities happen in calm waters and good weather conditions. We must take the necessary steps to ensure our boats are inspected thoroughly and operated safely.

When it comes to safety on the water, it is critical to be a conscientious, aware, and responsible boat operator and ensure your boat is properly vetted and operational. A great way to start this upcoming season is to undergo a free vessel safety check offered through the United States Coast Guard. New boaters are also encouraged to participate in a boating safety course that teaches on-water skills. Further, you should never operate a boat while intoxicated and should always ensure that passengers enjoying alcohol do so in moderation to avoid potential injuries or accidental drowning. Additionally, the United States Coast Guard requires that a boat have an approved life jacket for each person onboard. Everyone should be able to access easily a life jacket that fits properly for size and weight, and the best practice is always to wear your life jacket while the boat is underway.

This week, we are reminded that by taking just a few extra precautions, we can dramatically reduce the likelihood of accidents occurring on the water. By acquainting yourself, your children, and your friends with safe boating practices before operating or boarding a boat, we can all enjoy the beauty of our Nation's waters safely and responsibly.

In recognition of the importance of safe boating practices, the Congress, by joint resolution approved June 4, 1958 (36 U.S.C. 131), as amended, has authorized and requested the President to proclaim annually the 7-day period before Memorial Day weekend as “National Safe Boating Week.”

NOW, THEREFORE, I, DONALD J. TRUMP, President of the United States of America, do hereby proclaim May 18 through May 24, 2019, as National Safe Boating Week. I encourage all Americans who participate in boating activities to observe this occasion by learning more about safe boating practices and taking advantage of boating safety education opportunities. I also encourage the Governors of the States and Territories, and appropriate officials of all units of government, to join me in encouraging boating safety through events and activities.

IN WITNESS WHEREOF, I have hereunto set my hand this seventeenth day of May, in the year of our Lord two thousand nineteen, and of the Independence of the United States of America the two hundred and forty-third.

[FR Doc. 2019-10862

Filed 5-21-19; 11:15 am]

Billing code 3295-F9-P